DEPARTMENT OF THE INTERIOR

National Park Service

[NPS-WASO-NAGPRA-11918; 2200-1100-665]

Notice of Intent To Repatriate a Cultural Item: Binghamton University, State University of New York, Binghamton, NY

AGENCY: National Park Service, Interior.

ACTION: Notice.

SUMMARY: Binghamton University, in consultation with the appropriate Indian tribes, has determined that a cultural item meets the definition of sacred object and repatriation to the Indian tribe stated below may occur if no additional claimants come forward. Representatives of any Indian tribe that believes itself to be culturally affiliated with the cultural item may contact Binghamton University.

DATES: Representatives of any Indian tribe that believes it has a cultural affiliation with the cultural item should contact Binghamton University at the address below by March 21, 2013.

ADDRESSES: Nina M. Versaggi, Public Archaeology Facility, Binghamton University, Binghamton, NY 13902-6000, telephone (607) 777-4786.

SUPPLEMENTARY INFORMATION: Notice is here given in accordance with the Native American Graves Protection and Repatriation Act (NAGPRA), 25 U.S.C. 3005, of the intent to repatriate a cultural item in the possession of Binghamton University that meets the definition of sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item(s)

During the middle to late 1960s, the Anthropology Department at Binghamton University acquired a False Face mask made by an artist from the Six Nations, in Ontario, Canada. A typed index card accompanying the mask reads: “Big lipped Grandfather, Onondaga Nation, Deer Clan, Six Nations Reservation—Ontario.” The mask is carved wood with a black face with a red mouth, turned up at the corners, with a hole in the center. The mask face has a curved nose with holes and metal eye inlays surrounding center eyeholes. The face is framed with dark hair, and there are carved and etched lines on the face.

On March 11, 2003, Binghamton University hosted a consultation meeting for all Federally recognized tribes to review NAGPRA summaries as part of the process of determining cultural affiliation. A group of traditional representatives from the Cayuga Nation; Saint Regis Mohawk Tribe (previously listed as the St. Regis Band of Mohawk Indians of New York); Seneca Nation of Indians (previously listed as the Seneca Nation of New York); Seneca-Cayuga Tribe of Oklahoma; and Tuscarora Nation met privately after the open consultation. On July 17, 2012, a representative of the Onondaga Nation met with representatives of Binghamton University, and subsequently, the Onondaga Nation requested the repatriation of the mask.

Determinations Made by Binghamton University

Officials of Binghamton University have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Onondaga Nation.

Additional Requestors and Disposition

Representatives of any other Indian tribe that believes itself to be culturally affiliated with the sacred object should contact Nina M. Versaggi, Public Archaeology Facility, Binghamton University, Binghamton, NY 13902-6000, telephone (607) 777-4786 before March 21, 2013. Repatriation of the sacred object to the Onondaga Nation may proceed after that date if no additional claimants come forward.

Binghamton University is responsible for notifying the Cayuga Nation; Delaware Nation, Oklahoma; Delaware Tribe of Indians; Oneida Nation of New York; Oneida Tribe of Indians of Wisconsin; Onondaga Nation; Saint Regis Mohawk Tribe (previously listed as the St. Regis Band of Mohawk Indians of New York); Seneca Nation of Indians (previously listed as the Seneca Nation of New York); Seneca-Cayuga Tribe of Oklahoma; Stockbridge Munsee Community, Wisconsin; Tonawanda Band of Seneca (previously listed as the Tonawanda Band of Seneca Indians of New York); and Tuscarora Nation that this notice has been published.

Dated: December 13, 2012.
Sherry Hutt,
Manager, National Native American Graves Protection and Repatriation Act Program.

[FR Doc. 2013-03654 Filed 2-15-13; 8:45 am]

BILLING CODE 4312-50-P